DEPARTMENT OF AGRICULTURE

Food Safety and Inspection Service

[Docket No. FSIS-2014-0009]

Notice of Request for a New Information Collection: Meat Slaughter Industry Survey

AGENCY: Food Safety and Inspection Service, USDA.

ACTION: Notice and request for comments; reopening of comment period.

SUMMARY: The Food Safety and Inspection Service (FSIS) is reopening the comment period on its notice requesting comments on a new information collection for a survey of the meat slaughter industry that appeared in the Federal Register on April 21, 2014. FSIS is reopening the comment period for 30 days because the document that announced the information collection contained an incorrect comment period end date and did not provide a full 60 days for public comment.

DATES: Submit comments on or before July 9, 2014.

ADDRESSES: FSIS invites interested persons to submit comments on this information collection. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Docket Clerk, Patriots Plaza 3, 1400 Independence Avenue SW., Mailstop 3782, Room 8-163A, Washington, DC 20250-3700.

• Hand- or courier-delivered submittals: Deliver to Patriots Plaza 3, 355 E Street SW., Room 8-163A, Washington, DC 20250-3700.

Instructions: All items submitted by mail or electronic mail must include the Agency name and docket number FSIS-2014-0009. Comments received in response to this docket will be made available for public inspection and posted without change, including any personal information, to http://www.regulations.gov.

Docket: For access to background documents or comments received, go to the FSIS Docket Room at Patriots Plaza 3, 355 E Street SW., Room 8-164, Washington, DC 20250-3700 between 8:00 a.m. and 4:30 p.m., Monday through Friday.

FOR FURTHER INFORMATION CONTACT: Gina Kouba, Paperwork Reduction Act Coordinator, Food Safety and Inspection Service, USDA, 1400 Independence Avenue SW., Room 6067, South Building, Washington, DC 20250; (202) 690-6510.

SUPPLEMENTARY INFORMATION: On April 21, 2014, FSIS published a notice in the Federal Register (79 FR 22080) requesting comments on a new information collection for a survey of the meat slaughter industry. In this planned survey of meat slaughter establishments, FSIS will collect data to provide the most accurate, up-to-date information on industry practices and use of technologies. The information gathered through the meat slaughter industry survey will provide FSIS with reliable and valid information regarding food safety practices in FSIS-regulated establishments. The Agency will use this information to estimate costs in regulatory impact analyses. FSIS also will use the survey data to evaluate the effectiveness of its meat inspection program and to conduct analyses to assess the industry's food safety technologies, sanitation practices, microbiological testing practices, and recall readiness.

The April 21, 2014, notice contained an incorrect comment period end date of May 21, 2014. FSIS is reopening the comment period on this information collection notice to provide the public with an additional 30 days to comment, so the public will be provided with a total of 60 days to submit their comments.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service.

Options range from recalls to export information to regulations, directives, and notices. Customers can add or delete subscriptions themselves, and have the option to password protect their accounts.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on June 4, 2014.
Alfred V. Almanza,
Administrator.

[FR Doc. 2014-13390 Filed 6-6-14; 8:45 am]

BILLING CODE 3410-DM-P